DEPARTMENT OF ENERGY

Federal Energy Regulatory Commission

[Project No. 10806-014]

City of Holyoke Gas & Electric Department; Notice of Effectiveness of Withdrawal of Notices of Intent

On May 19, 2025, the City of Holyoke Gas & Electric Department (Holyoke Gas & Electric) filed a Notice of Intent (NOI) to file a subsequent license application, a Pre-Application Document (PAD), and a request to use the traditional licensing process, for the relicensing of its Station No. 5 Hydroelectric Project No. 10806 (Station No. 5 Project or project).

On June 25, 2025, Commission staff issued an Order Extending License Term approving Holyoke Gas & Electric's May 14, 2025 request to extend the license term until August 31, 2039. Because the license term was extended to 2039, on June 26, 2025, Holyoke Gas & Electric filed a letter withdrawing its NOI and PAD for the project. As a result of the license extension, the licensee would need to file a new NOI and PAD to relicense the project no later than August 31, 2034. No motions in opposition to the notice of withdrawal have been filed, and the Commission has taken no action to disallow the withdrawal. Pursuant to Rule 216(b) of the Commission's Rules of Practice and Procedure,¹ the withdrawal of the NOI became effective on July 11, 2025, and Holyoke Gas & Electric's prefiling process for the Station No. 5 Project is hereby terminated.

¹ 18 CFR 385.216(b) (2024).

Dated: July 14, 2025.
Debbie-Anne A. Reese,
Secretary.

[FR Doc. 2025-13445 Filed 7-16-25; 8:45 am]

BILLING CODE 6717-01-P